FEDERAL ELECTION COMMISSION

Sunshine Act Meetings

Federal Register Citation of Previous Announcement: 80 FR 33265, June 11, 2015

PREVIOUSLY ANNOUNCED TIME AND DATE OF THE MEETING: Tuesday June 16, 2015 at 10:00 a.m. and Thursday, June 18, 2015 at the conclusion of the open meeting.

PLACE: 999 E Street NW., Washington, DC.

STATUS: This meeting will be closed to the public.

CHANGES IN THE MEETING: This meeting will be continued at 10:00 a.m. on Tuesday, June 23, 2015.

CONTACT PERSON FOR MORE INFORMATION: Judith Ingram, Press Officer, Telephone: (202) 694-1220.

Shelley E. Garr,
Deputy Secretary of the Commission.

[FR Doc. 2015-15517 Filed 6-19-15; 4:15 pm]

BILLING CODE 6715-01-P